ENVIRONMENTAL PROTECTION AGENCY

[OW-FRL-8765-6]

Beaches Environmental Assessment and Coastal Health Act

AGENCY: Environmental Protection Agency.

ACTION: Notice of Availability of 2009 BEACH Act Grants.

SUMMARY: The Beaches Environmental Assessment and Coastal Health (BEACH) Act, signed into law on October 10, 2000, amended the Clean Water Act (CWA), to incorporate provisions to reduce the risk of illness to users of the Nation's recreational waters. Section 406(b) of the CWA, as amended by the BEACH Act, authorizes the U.S. Environmental Protection Agency (EPA) to award grants to eligible States, Territories, Tribes, and local governments to develop and implement programs for monitoring coastal recreation waters, including the Great Lakes, and notifying the public of the potential exposure to disease-causing microorganisms in these waters. EPA encourages coastal and Great Lakes States to apply for BEACH Act grants to implement effective and comprehensive coastal recreation water monitoring and public notification programs (“implementation grants”). EPA also encourages coastal and Great Lakes Tribes to apply for BEACH Act grants to develop effective and comprehensive coastal recreation water monitoring and public notification programs (“development grants”).

DATES: States, Erie County Pennsylvania, and those Tribes that previously received BEACH Act grants, must submit applications on or before March 24, 2009. Other eligible Tribes should notify the relevant EPA Regional BEACH Act grant coordinator of their interest in applying for a grant on or before March 9, 2009. Upon receipt of a Tribe's notice of interest, EPA will establish an appropriate application deadline.

ADDRESSES: You must send your application to the appropriate EPA Regional Grant Coordinator listed in this notice under SUPPLEMENTARY INFORMATION, Section VI.

FOR FURTHER INFORMATION CONTACT: Rich Healy, 1200 Pennsylvania Ave., NW., (4305T), Washington, DC 20460, 202-566-0405, healy.richard@epa.gov.

SUPPLEMENTARY INFORMATION:

I. Grant Program

What Is the Statutory Authority for BEACH Act Grants?

The general statutory authority for BEACH Act grants is section 406(b) of the Clean Water Act, as amended by the BEACH Act, Public Law 106-284, 114 Stat. 970 (2000). It provides that “(T)he Administrator may make grants to States and local governments to develop and implement programs for monitoring and notification for coastal recreation waters adjacent to beaches or similar points of access that are used by the public.” CWA section 406(b)(2)(A), however, limits EPA's ability to award implementation grants only to those States and Tribes that meet certain requirements (see Section II, Funding and Eligibility, below for information on specific requirements).

What Activities Are Eligible for Funding Under the FY 2009 Grants?

In fiscal year 2009, EPA intends to award grants authorized under CWA section 406(b) to eligible States to support the implementation of coastal recreation water monitoring and public notification programs that are consistent with EPA's required performance criteria for implementation grants. Also in fiscal year 2009, EPA intends to award development grants to eligible Tribes to support the development of coastal recreation water monitoring and public notification programs that are consistent with EPA's performance criteria for grants. EPA published the required performance criteria for grants in its National Beach Guidance and Required Performance Criteria for Grants (EPA-823-B-02-004), on July 19, 2002. A notice of availability of the document was published in the Federal Register (67 FR 47540, July 19, 2002). This document can be found on EPA's Web site at http://www.epa.gov/waterscience/beaches/grants. Copies of the document may also be obtained by writing, calling, or e-mailing: Office of Water Resource Center, U.S. Environmental Protection Agency, Mail Code RC-4100, 1200 Pennsylvania Avenue, NW., Washington, DC 20460. (Phone: 202-566-1731 or email: center.water-resource@epa.gov).

II. Funding and Eligibility

Who Is Eligible To Apply for These Implementation Grants?

Coastal and Great Lake States that meet the requirements of CWA section 406(b)(2)(A) are eligible for grants in fiscal year 2009 to implement monitoring and notification programs. The definition of the term “State” in CWA section 502 includes the District of Columbia, and current U.S. Territories: The Commonwealth of Puerto Rico, the Virgin Islands, Guam, American Samoa, and the Commonwealth of the Northern Mariana Islands.

Are Local Governments Eligible for Funding?

CWA section 406(b)(2)(B) authorizes EPA to make a grant to a local government for implementation of a monitoring and notification program only if, after July 19, 2003, EPA determines that the State within which the local government has jurisdiction is not implementing a program that meets the requirements of CWA section 406(b), which includes a requirement that the program is consistent with the performance criteria in National Beach Guidance and Required Performance Criteria for Grants. EPA awards an implementation grant to Erie County, Pennsylvania, the local government implementing the beach monitoring and notification program for all of Pennsylvania's coastal recreation waters. Local governments may contact their EPA Regional office for further information about BEACH Act grants.

How May Tribes Apply for BEACH Act Development Grants and How Much Funding Is Available for Tribes?

Section 518(e) of the CWA authorizes EPA to treat eligible Indian Tribes in the same manner as States for the purpose of receiving CWA section 406 grant funding. For fiscal year 2009, EPA will make $100,000 available for development grants to eligible Tribes. In order to be eligible for a CWA section 406 development grant, a Tribe must have coastal recreation waters adjacent to beaches or similar points of access that are used by the public. The phrase “coastal recreation waters” is defined in CWA section 502(21) to mean the Great Lakes and marine coastal waters (including coastal estuaries) that are designated under CWA section 303(c) for use for swimming, bathing, surfing, or similar water contact activities. The statute explicitly excludes from the definition inland waters and waters upstream of the mouth of a river or stream having an unimpaired natural connection with the open sea. In addition, a Tribe must demonstrate that it meets the “treatment in the same manner as a State” (TAS) criteria contained in CWA section 518(e) for purposes of receiving a CWA section 406 grant. To demonstrate TAS, the Tribe must show that it: (1) Is federally recognized; (2) has a governing body carrying out substantial governmental duties and powers; (3) will be exercising functions pertaining to waters within the reservation; and (4) is reasonably expected to be capable of carrying out the functions consistent with the CWA and all applicable regulations. EPA encourages those Tribes with coastal recreation waters to contact their EPA Regional BEACH Act grant coordinator for further information regarding the application process as soon as possible.

Are There Any Additional Eligibility Requirements and Grant Conditions Applicable to States and Tribes?

Yes, there are additional eligibility requirements and grant conditions. First, CWA section 406(b)(2)(A) provides that EPA may only award a grant to implement a monitoring and notification program if:

(i) The program is consistent with the performance criteria published by the Administrator under CWA section 406(a);

(ii) The State or local government prioritizes the use of grant funds for particular coastal recreation waters based on the use of the water and the risk to human health presented by pathogens or pathogen indicators;

(iii) The State or local government makes available to the Administrator the factors used to prioritize the use of funds under clause (ii);

(iv) The State or local government provides a list of discrete areas of coastal recreation waters that are subject to the program for monitoring and notification for which the grant is provided that specifies any coastal recreation waters for which fiscal constraints will prevent consistency with the performance criteria under CWA section 406(a); and

(v) The public is provided an opportunity to review the program through a process that provides for public notice and an opportunity for comment.

Second, CWA section 406(c) requires that as a condition of receipt of a CWA section 406 grant, a State or local government program for monitoring and notification must identify:

(1) Lists of coastal recreation waters in the State, including coastal recreation waters adjacent to beaches or similar points of access that are used by the public;

(2) In the case of a State program for monitoring and notification, the process by which the State may delegate to local governments responsibility for implementing the monitoring and notification program;

(3) The frequency and location of monitoring and assessment of coastal recreation waters based on—

(A) The periods of recreational use of the waters;

(B) The nature and extent of use during certain periods;

(C) The proximity of the waters to known point sources and nonpoint sources of pollution; and

(D) Any effect of storm events on the waters;

(4)(A) the methods to be used for detecting levels of pathogens and pathogen indicators that are harmful to human health; and

(B) the assessment procedures for identifying short-term increases in pathogens and pathogen indicators that are harmful to human health in coastal recreation waters (including increases in relation to storm events);

(5) measures for prompt communication of the occurrence, nature, location, pollutants involved, and extent of any exceeding of, or likelihood of exceeding, applicable water quality standards for pathogens and pathogen indicators to—

(A) the Administrator, in such form as the Administrator determines to be appropriate; and

(B) a designated official of a local government having jurisdiction over land adjoining the coastal recreation waters for which the failure to meet applicable standards is identified;

(6) measures for the posting of signs at beaches or similar points of access, or functionally equivalent communication measures that are sufficient to give notice to the public that the coastal recreation waters are not meeting or are not expected to meet applicable water quality standards for pathogens and pathogen indicators; and

(7) measures that inform the public of the potential risks associated with water contact activities in the coastal recreation waters that do not meet applicable water quality standards.

Third, as required by CWA section 406(b)(3)(A) and the and the National Beach Guidance and Required Performance Criteria for Grants, recipients of a CWA section 406 grant must submit to EPA, in such format and at such intervals as EPA determines to be appropriate, a report that describes:

(1) Data collected as part of the program for monitoring and notification as described in section 406(c), and

(2) actions taken to notify the public when water quality standards are exceeded.

Grant recipients must submit to EPA both the monitoring and notification reports for any beach season by January 31 of the year following the beach season. For the 2009 beach season, the deadline for states to submit complete and correct reports is January 31, 2010. EPA first established this report submission deadline in the Federal Register notice for the fiscal year 2003 grants (68 FR 15446, 15449 (March 31, 2003)).

Fourth, grant recipients must report to EPA, latitude, longitude and mileage data on:

(1) The extent of beaches and similar points of public access adjacent to coastal recreation waters, and

(2) the extent of beaches that are monitored.

EPA first established this requirement in the Federal Register notice for the fiscal year 2003 grants (68 FR 15446, 15447 (March 31, 2003)). EPA is continuing this requirement in order to capture any changes States, tribes or local governments may make to their beach monitoring and notification programs. States, tribes or local governments must report to EPA any changes to either the extent of their beaches or similar points of access, or to the extent of their beaches that are monitored.

How Much Funding Is Available?

For fiscal year 2009, the total available for BEACH Act grants is expected to be $9,900,000. EPA expects to award all but $100,000 to eligible States for implementation grants. EPA intends to award the remaining $100,000 in development grants to eligible Tribes. If EPA does not award any grants to eligible Tribes, EPA will redistribute the money to eligible States using the allocation formula described below.

How Will the Funding for States Be Allocated?

For fiscal year 2009, EPA expects to award grants to all eligible States who apply for funding based on the allocation formula that the Agency developed for awarding BEACH Act grant funds in 2002. The allocation formula uses three factors: (1) Beach season length, (2) beach miles, and (3) beach use.

(1) Beach Season Length

EPA selected beach season length as a factor because it determines the part of the year when a government would conduct its monitoring program. The longer the beach season, the more resources a government would need to conduct monitoring. The Agency obtained the information on the length of a beach season from the National Health Protection Survey of Beaches for the States that submitted a completed survey. EPA estimated the beach season length for Alaska based on air and water temperature, available information on recreation activities, and data from the 1993 National Water Based Recreation Survey. EPA grouped the States into four categories of beach season lengths:

For beaches in: | The beach season category is:
Alaska | <3 months.
Connecticut, Delaware, Illinois, Indiana, Maine, Maryland, Massachusetts, Michigan, Minnesota, New Hampshire, New Jersey, New York, Ohio, Oregon, Pennsylvania, Rhode Island, Virginia, Washington, Wisconsin | 3-4 months.
Alabama, Georgia, Louisiana, Mississippi, North Carolina, South Carolina | 5-6 months.
American Samoa, California, Florida, Guam, Hawaii, Northern Marianas, Puerto Rico, Texas, U.S. Virgin Islands | 9-12 months.

(2) Beach Miles

EPA selected miles of beach as a factor because it determines the geographical extent over which a government would conduct monitoring. The more miles of beaches, the more resources a government would need to conduct monitoring. EPA does not have beach mileage data in a format that can be used for the allocation formula at this time. Therefore, EPA is using shoreline miles as a surrogate for beach miles in the allocation formula. Shoreline miles data overestimates beach miles in some States; however, this is the best way to estimate beach miles until complete beach mile data become available. EPA used the National Oceanic and Atmospheric Administration (NOAA) publication, The Coastline of the United States, to quantify shoreline miles.

(3) Beach Use

EPA selected beach use as a factor because it reflects the magnitude of potential human exposure to pathogens at recreational beaches. Greater use of beaches makes it more likely that a government would need to increase monitoring frequency due to the larger number of people potentially exposed to pathogens. EPA continues to use the coastal population of counties (based on the 2000 Census data) to quantify the coastal population that is wholly or partially within the State's legally-defined coastal zone, as a surrogate for actual beach usage.

The allocation formula sums the three parts. The first part is a base amount for all States that varies with the length of the beach season. The second part distributes 50% of the total remaining funds based on the ratio of shoreline miles in a State to the total length of shoreline miles across the entire United States. For example, if a State has 4% of the total coastal and Great Lakes shoreline, that State would receive 4% of 50% (or 2%) of total funds remaining after the Agency distributed the funds for part one. The third part distributes the remaining 50% based on the ratio of coastal population in a State to the total coastal population in the United States. For example, if a State has 2% of the total coastal and Great Lakes population, that State would receive 2% of 50% (or 1%) of the total funds remaining after the Agency distributes the funds based on the first two parts. The following table summarizes the allocation formula:

For the factor: | The part of the allocation is:
Beach season length
| < 3 months: $150,000 (States with a season <3 months receive season-based funding only.)
| 3-4 months: $200,000
| 5-6 months: $250,000
| >6 months: $300,000
Shoreline miles | determined based on the ratio of shoreline miles in a State/Territory to the total length of shoreline miles across the United States and is taken from 50% of funds remaining after allocation of season-based funding.
Coastal population | determined based on the ratio of coastal population in a State/Territory to the total coastal population in the United States and is taken from 50% of funds remaining after allocation of season-based funding and funding based on shoreline miles.

For 2009, the total available for BEACH Act grants to States is expected to be $9,800,000. Assuming all 35 States with coastal recreation waters apply and meet the statutory eligibility requirements for implementation grants (and have met the statutory grant conditions applicable to previously awarded section 406 grants), the distribution of the funds for year 2009 is expected to be:

For the State of: | The year 2009 allocation is expected to be:
Alabama | $262,000
Alaska | 150,000
American Samoa | 302,000
California | 517,000
Connecticut | 223,000
Delaware | 211,000
Florida | 528,000
Georgia | 286,000
Guam | 303,000
Hawaii | 323,000
Illinois | 243,000
Indiana | 206,000
Louisiana | 322,000
Maine | 255,000
Maryland | 269,000
Massachusetts | 254,000
Michigan | 278,000
Minnesota | 204,000
Mississippi | 257,000
New Hampshire | 205,000
New Jersey | 278,000
New York | 348,000
North Carolina | 302,000
Northern Marianas | 303,000
Ohio | 224,000
Oregon | 229,000
Pennsylvania | 222,000
Puerto Rico | 328,000
Rhode Island | 213,000
South Carolina | 297,000
Texas | 383,000
U.S. Virgin Islands | 303,000
Virginia | 277,000
Washington | 270,000
Wisconsin | 225,000

How does the allocation described above relate to the August 13, 2008 Federal Register Notice regarding the Beach Grant Allocation Formula?

On August 13, 2008, EPA published proposed changes to the allocation formula that the Agency expects to implement starting with the BEACH Act grants to be awarded in 2010 (73 FR 47154). Today's notice announcing the availability of BEACH Act grants to be awarded in 2009 is not affected by the notice EPA published on August 13, 2008.

What If a State Does Not Apply or Does Not Qualify for Funding?

EPA expects that all 35 States will apply for a grant. If fewer than 35 States apply for the allocated amount, or if any applicant fails to meet the statutory eligibility requirements (or the statutory conditions applicable to previously awarded section 406 grants), then EPA will distribute available grant funds to eligible States in the following order:

(1) States that meet the eligibility requirements for implementation grants and that have met the statutory conditions applicable to previously awarded section 406 grants will be awarded the full amount of funds allocated to the State under the formula described above.

(2) EPA may award program implementation grants to local governments in States that the Agency determines have not met the requirements for implementation grants.

(3) Consistent with CWA Section 406(h), EPA will use grant funds to conduct a beach monitoring and notification program in the case of a State that has no program for monitoring and notification that is consistent with EPA's grant performance criteria.

What If a State or Tribe Cannot Use All of Its Allocation?

If a State or Tribe cannot use all of its allocation, the Regional Administrator may award the unused funds to any eligible coastal or Great Lake grant recipient in the Region for the continued development or implementation of their coastal recreation water monitoring and notification program(s). If, after re-allocation, there are still unused funds within the Region, EPA Headquarters will redistribute these funds to any eligible coastal or Great Lake BEACH Act grant recipient.

How Will the Funding for Tribes Be Allocated?

EPA expects to apportion the funds set aside for tribal grants evenly among all eligible Tribes that apply for funding.

What Is the Expected Duration of Funding and Projects?

The expected funding and project periods for implementation grants awarded in fiscal year 2009 is one year.

Does EPA Require Matching Funds?

Recipients do not have to provide matching funds for BEACH Act grants. EPA may establish a match requirement in the future based on a review of State program activity and funding levels.

III. Eligible Activities

Recipients of implementation grants may use funds for activities to support implementing a beach monitoring and notification program that is consistent with the required performance criteria for grants specified in the document, National Beach Guidance and Required Performance Criteria for Grants (EPA-823-B-02-004). Recipients of development grants may use the funds to develop a beach monitoring and notification program consistent with the performance criteria.

IV. Selection Process

EPA Regional offices will award CWA section 406 grants through a non-competitive process. EPA expects to award grants to all eligible State, Tribe, and Territory applicants that meet the applicable requirements described in this notice.

Who Has the Authority To Award BEACH Act Grants?

The Administrator has delegated the authority to award BEACH Act grants to the Regional Administrators.

V. Application Procedure

What Is the Catalog of Federal Domestic Assistance (CFDA) Number for the BEACH Monitoring and Notification Program Implementation Grants?

The number assigned to the BEACH Act Grants is 66.472, Program Code CU.

Can BEACH Act Grant Funds Be Included in a Performance Partnership Grant?

For fiscal year 2009, BEACH Act Grants cannot be included in a Performance Partnership Grant.

What Is the Application Process?

Your application package should contain completed:

• EPA SF-424 Application for Federal Assistance, and

• Program Summary.

In order for EPA to determine that a State or local government is eligible for an implementation grant, the applicant must submit documentation with its application to demonstrate that its program is consistent with the performance criteria. The Program Summary must contain sufficient technical detail for EPA to confirm that your program meets the statutory eligibility requirements and statutory grant conditions for previously awarded CWA section 406 grants listed in section II (Funding and Eligibility) of this notice. The Program Summary must also describe how the State or local government used BEACH Act Grant funds to develop and implement the beach monitoring and notification program, and how the program is consistent with the nine performance criteria in National Beach Guidance and Required Performance Criteria for Grants (EPA-823-B-02-004) which is found at http://www.epa.gov/waterscience/beaches/grants/guidance/index.html. The Program Summary should also describe the State or local program's objectives for the next year.

States, Erie County, and Tribes that have previously been awarded BEACH Act grants must submit application packages to the appropriate EPA Regional Office by March 24, 2009. EPA will make an award after the Agency reviews the documentation and confirms that the program meets the applicable requirements. The Office of Management and Budget has authorized EPA to collect this information (BEACH Act Grant Information Collection Request, OMB control number 2040-0244). Please contact the appropriate EPA Regional Office for a complete application package. See Section VI for a list of EPA Regional Grant Coordinators or visit the EPA Beaches Web site at http://www.epa.gov/waterscience/beaches/contact.html on the Internet.

What Should a Tribe's Notice of Interest Contain?

The Notice of Interest should include the Tribe's name and the name and telephone number of a contact person.

Are Quality Assurance and Quality Control (QA/QC) Required for Application?

Yes. Three specific QA/QC requirements must be met to comply with EPA's performance criteria for grants:

(1) Applicants must submit documentation that describes the quality system implemented by the State, Territory, Tribe, or local government. Documentation may be in the form of a Quality Management Plan or equivalent documentation.

(2) Applicants must submit a quality assurance project plan (QAPP) or equivalent documentation.

(3) Applicants are responsible for submitting documentation of the quality system and QAPP for review and approval by the EPA Quality Assurance Officer or his designee before they take primary or secondary environmental measurements. More information about the required QA/QC procedures is available in Chapter Four and Appendix H of National Beach Guidance and Required Performance Criteria for Grants (EPA-823-B-02-004).

Are There Reporting Requirements?

Recipients must submit annual performance reports and financial reports as required in 40 CFR 31.40 and 31.41. The annual performance report explains changes to the beach monitoring and notification program during the grant year. It also describes how the grant funds were used to implement the program to meet the performance criteria listed in National Beach Guidance and Required Performance Criteria for Grants (EPA-823-B-02-004). The annual performance report required under 40 CFR 31.40 is due no later than 90 days after the grant year ends. Recipients must also submit annual monitoring and notification reports required by the National Beach Guidance and Required Performance Criteria for Grants (EPA-823-B-02-004). Sections 2.2.3 and 4.3 of the document contain the performance criterion requiring an annual monitoring report, and sections 2.2.8 and 5.4 contain the performance criterion requiring an annual notification report. This document can be found at http://www.epa.gov/waterscience/beaches/grants/. These reports, required to be submitted to EPA under CWA section 406(b)(3)(A) and the National Beach Guidance and Required Performance Criteria for Grants, include data collected as part of a monitoring and notification program. As a condition of award of an implementation grant, EPA requires that the monitoring report and the notification report for any beach season be submitted not later than January 31 of the year following the beach season. (See Section II, Funding and Eligibility, above.)

What Regulations and OMB Cost Circular Apply to the Award and Administration of These Grants?

The regulations at 40 CFR Part 31 govern the award and administration of grants to States, Tribes, local governments, and Territories under CWA section 406(b). Allowable costs will be determined according to the cost principles outlined in 2 CFR Part 225.

VI. Grant Coordinators

Headquarters—Washington, DC

Rich Healy USEPA, 1200 Pennsylvania Ave., NW.-4305, Washington, DC 20460; T: 202-566-0405; F: 202-566-0409; healy.richard@epa.gov.

Region I—Connecticut, Maine, Massachusetts, New Hampshire, Rhode Island

Matt Liebman USEPA Region I, One Congress St., Suite 1100-COP, Boston, MA 02114-2023; T: 617-918-1626; F: 617-918-1505; liebman.matt@epa.gov.

Region II—New Jersey, New York, Puerto Rico, U.S. Virgin Islands

Helen Grebe USEPA Region II, 2890 Woodbridge Ave., MS220, Edison, NJ 08837-3679; T: 732-321-6797; F: 732-321-6616; grebe.helen@epa.gov.

Region III—Delaware, Maryland, Pennsylvania, Virginia

Denise Hakowski USEPA Region III, 1650 Arch Street, 3WP30, Philadelphia, PA 19103-2029; T: 215-814-5726; F: 215-814-2318; hakowski.denise@epa.gov.

Region IV—Alabama, Florida, Georgia, Mississippi, North Carolina, South Carolina

Joel Hansel USEPA Region IV, 61 Forsyth St., 15th Floor, Atlanta, GA 30303-3415; T: 404-562-9274; F: 404-562-9224; hansel.joel@epa.gov.

Region V—Illinois, Indiana, Michigan, Minnesota, Ohio, Wisconsin

Holly Wirick USEPA Region V, 77 West Jackson Blvd., WT-16J, Chicago, IL 60604-3507; T: 312-353-6704; F: 312-886-0168; wirick.holiday@epa.gov.

Region VI—Louisiana, Texas

Mike Schaub USEPA Region VI, 1445 Ross Ave., 6WQ-EW, Dallas, TX 75202-2733; T: 214-665-7314; F: 214-665-6689; schaub.mike@epa.gov.

Region IX—American Samoa, Commonwealth of the Northern Mariana Islands, California, Guam, Hawaii

Terry Fleming USEPA Region IX, 75 Hawthorne St., WTR-2, San Francisco, CA 94105; T: 415-972-3462; F: 415-947-3537; fleming.terrence@epa.gov.

Region X—Alaska, Oregon, Washington

Rob Pedersen USEPA Region X, 120 Sixth Ave., OW-134, Seattle, WA 98101; T: 206-553-1646; F: 206-553-0165; pedersen.rob@epa.gov.

Dated: January 14, 2009.
Benjamin H. Grumbles,
Assistant Administrator for Water.

[FR Doc. E9-1397 Filed 1-22-09; 8:45 am]

BILLING CODE 6560-50-P